DEPARTMENT OF STATE

[Public Notice 11376]

30-Day Notice of Proposed Information Collection: Career Connections Evaluation

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to April 21, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Natalie Donahue, Chief of Evaluation, Bureau of Educational and Cultural Affairs, who may be reached at (202) 632-6193 or ecaevaluation@state.gov.

SUPPLEMENTARY INFORMATION: • Title of Information Collection: Career Connections Evaluation.

• OMB Control Number: None.

• Type of Request: New collection.

• Originating Office: Educational and Cultural Affairs (ECA/P/V).

• Form Number: No form.

• Respondents: Career Connections program alumni, small sample of American alumni, and seminar presenters.

• Estimated Number of Alumni Survey Respondents: 3,125.

• Estimated Number of Alumni Survey Responses: 313.

• Average Time per Alumni Survey: 20 minutes.

• Total Estimated Alumni Survey Burden Time: 104.33 hours.

• Estimated Number of Alumni Key Informants: 45.

• Average Time per Alumni Interview: 1 hour.

• Total Estimated Alumni Interview Burden Time: 45 hours.

• Estimated Number of Seminar Presenter Key Informants: 15.

• Average Time per Seminar Presenter Interview: 0.75 hour.

• Total Estimated Seminar Presenter Interview Burden Time: 11.25 hours.

• Total Estimated Burden Time: 160.58 annual hours.

• Frequency: Once.

• Obligation to Respond: Voluntary.

We are soliciting public comments to permit the Department to:

• Evaluate whether the proposed information collection is necessary for the proper functions of the Department.

• Evaluate the accuracy of our estimate of the time and cost burden for this proposed collection, including the validity of the methodology and assumptions.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Career Connections program is managed by the Bureau of Educational and Cultural Affairs (ECA) Office of Alumni Affairs OAA. Started in 2019, the Career Connections program brings together American alumni (18-35 years old) of U.S. Government-sponsored exchange programs with expert career coaches, professionals from diverse fields, and international leaders to help alumni market their international exchange experiences. Delivered as two-day seminars across the country, the Career Connections program provides invaluable networking opportunities for U.S. alumni with leaders in their communities with activities including: resume-building, developing a personal brand, translating skills gained through the exchange experience, developing an online presence, and networking to develop connections with fellow alumni and expert speakers alike.

ECA's Evaluation Division will undertake an internal evaluation of the Career Connections program. The purpose of this evaluation is to inform the next iteration of the award with participant-driven recommendations on how to strengthen the Career Connections program. The Evaluation Division will survey participants of Career Connections participants along with a small sample of alumni that have not participated in seminars, as well as conduct key-informant interviews with alumni and seminar presenters.

Methodology

As existing project monitoring data does not cover the topics being investigated sufficiently, it is necessary to collect information directly from program alumni to fully understand how the Career Connections program can be strengthened and what the immediate outcomes for participants are. While alumni who have participated in the Career Connections program will receive an online survey, a small number will also be invited to participate in individual interviews to explore key issues in greater depth. The survey will also be sent to a small sample of alumni that have not participated in Career Connections seminars to understand why they haven't participated and how they could be enticed to in the future. Finally, as ECA wishes to understand best practices in professional development training, a small group of seminar presenters will be invited to participate in individual interviews to discuss what they feel could be strengthened.

Zachary A. Parker,
Director, Office of Directives Management, Department of State.

[FR Doc. 2021-05894 Filed 3-19-21; 8:45 am]

BILLING CODE 4710-05-P